FEDERAL COMMUNICATIONS COMMISSION

47 CFR Part 73

[DA 02-1626; MM Docket No. 01-311; RM-10318]

Radio Broadcasting Services; Burney, CA

AGENCY: Federal Communications Commission.

ACTION: Final rule.

SUMMARY: The Commission, at the request of Corey J. McCaslin, allots Channel 225A to Burney, California, as the community's second local FM service. Channel 225A can be allotted to Burney, California, in compliance with the Commission's minimum distance separation requirements at center city coordinates without a site restriction. The coordinates for Channel 225A at Burney, CA are 40-52-56 North Latitude and 121-39-34 West Longitude. A filing window for Channel 225A at Burney, CA, will not be opened at this time. Instead, the issue of opening this allotment for auction will be addressed by the Commission in a subsequent Order.

DATES: Effective September 3, 2002.

FOR FURTHER INFORMATION CONTACT: Deborah Dupont, Media Bureau, (202) 418-2180.

SUPPLEMENTARY INFORMATION: This is a synopsis of the Commission's Report and Order, MM Docket No. 01-311, adopted July 3, 2002, and released July 19, 2002. The full text of this Commission decision is available for inspection and copying during normal business hours in the FCC Information Center, Portals II, 445 12th Street, SW., Room CY-A257, Washington, DC 20554. The complete text of this decision may also be purchased from the Commission's duplicating contractor, Qualex International, Portals II, 445 12th Street, SW., Room CY-B402, Washington, DC, 20554, (202) 863-2893, facsimile (202) 863-2898, or via e-mail qualexint@aol.com.

List of Subjects in 47 CFR part 73

Radio, Radio broadcasting.

Accordingly, Part 73 of title 47 of the Code of Federal Regulations is amended as follows:

PART 73—RADIO BROADCAST SERVICES

1. The authority citation for Part 73 continues to read as follows:

Authority: 47 U.S.C. 154, 303, 334 and 336.

§ 73.202 [Amended]

2. Section 73.202(b), the Table of FM Allotments under California, is amended by adding Channel 225A at Burney.

Federal Communications Commission.
John A. Karousos,
Assistant Chief, Audio Division, Media Bureau.

[FR Doc. 02-19740 Filed 8-5-02; 8:45 am]

BILLING CODE 6712-01-P